DEPARTMENT OF HEALTH AND HUMAN SERVICES

Centers for Disease Control and Prevention

[30Day-23-22IJ]

Agency Forms Undergoing Paperwork Reduction Act Review

In accordance with the Paperwork Reduction Act of 1995, the Centers for Disease Control and Prevention (CDC) has submitted the information collection request titled “Evaluation of safe spaces in CDC-directly funded community-based organizations (CBOs)” to the Office of Management and Budget (OMB) for review and approval. CDC previously published a “Proposed Data Collection Submitted for Public Comment and Recommendations” notice on August 30, 2022, to obtain comments from the public and affected agencies. CDC received one non-substantive comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Evaluation of Safe Spaces in CDC-directly funded Community-based Organizations (CBOs)—New—National Centers for HIV, Viral Hepatitis, STD, and TB Prevention (NCHHSTP), Centers for Disease Control and Prevention (CDC).

Background and Brief Description

The CDC-funded HIV prevention program for young men of Color who have sex with men (YMSM) and young transgender persons (YTG) of Color employs an innovative strategy to address the social determinants of health (e.g., housing, employment) that contribute to health inequities and impact HIV outcomes: safe spaces. Safe spaces are culturally, linguistically, and age-appropriate physical spaces for engaging people who are at increased risk for HIV and providing HIV prevention and care activities. Under this program, funded community-based organizations (CBOs) must address at least two social determinants of health within their safe spaces. CBOs will employ a community-driven approach and work with people who are at increased risk for HIV to select social determinants of health with the most potential to reduce barriers to accessing HIV prevention and care services and promote health equity.

The purpose of this data collection is to assess the implementation of safe spaces, participant perceptions about the role of space spaces in addressing social determinants of health and promoting HIV prevention and care, and the association between safe space implementation and HIV process and outcome indicators. The primary objectives of this data collection are to obtain data to: (a) describe the implementation of safe spaces; (b) to describe the impact on participants served; and (c) identify successful models for safe spaces to inform other CBOs and CDC.

By describing safe spaces and their impact on HIV-related outcomes, this data collection provides an important data source for evaluating a public health strategy aimed at reducing new infections, increasing HIV testing, and prioritizing populations at high risk for acquiring HIV.

CDC requests approval for a two-year information collection. Data are collected through surveys with participants of the safe spaces and phone-based interviews conducted with safe space staff. Persons attending the safe spaces are young men who have sex with men and young transgender persons of Color over the age of 18. A brief eligibility screener will be used to determine eligibility for participation in the participant survey. All persons surveyed will also be offered a token of appreciation in the amount of $25. No other federal agency systematically collects this type of information from persons attending safe spaces. These data may inform prevention program development and monitoring at both the local and national levels.

CDC estimates that this data collection will involve, eligibility screening for 1,250 persons, and a participant survey for 1,000 eligible respondents at 10 CBOs, annually. At each CBO, two staff members will be interviewed about their perceptions of safe spaces, totaling 20 staff interviews. CDC requests OMB approval for an estimated 384 annual burden hours. Participation of respondents is voluntary and there is no cost to the respondents other than their time.

Estimated Annualized Burden Hours
Type of respondents | Form name | Number of respondents | Number of responses per respondent | Average burden per response (in hours)
Persons Screened | Eligibility Screener | 1,250 | 1 | 5/60
Eligible Participants | Participant survey | 1,000 | 1 | 15/60
Community-based organization staff | Staff interview | 20 | 1 | 90/60

Jeffrey M. Zirger,
Lead, Information Collection Review Office, Office of Scientific Integrity, Office of Science, Centers for Disease Control and Prevention.

[FR Doc. 2023-00804 Filed 1-17-23; 8:45 am]

BILLING CODE 4163-18-P